DEPARTMENT OF EDUCATION

Applications for New Awards; Arts in Education National Program

AGENCY: Office of Innovation and Improvement, Department of Education.

ACTION: Notice.

Overview Information: Arts in Education National Program (AENP). Notice inviting applications for new awards for fiscal year (FY) 2015.

Catalog of Federal Domestic Assistance (CFDA) Number: 84.351F.

Dates:

Applications Available: February 10, 2015.

Deadline for Notice of Intent to Apply: March 12, 2015.

Date of Informational Webinar: The AENP intends to hold a Webinar designed to provide technical assistance to interested applicants. Detailed information regarding this Webinar will be provided on the AENP Web site at http://www2.ed.gov/programs/artsnational/index.html.

Deadline for Transmittal of Applications: April 13, 2015.

Deadline for Intergovernmental Review: June 10, 2015.

Full Text of Announcement

I. Funding Opportunity Description

Purpose of Program: The AENP supports national-level, high-quality Arts ¹ education activities and services for children and youth, with special emphasis on serving Children from Low-income Families and Children with Disabilities.

¹ Capitalized terms are defined in the Definitions section of this notice.

Priorities: This notice includes one absolute priority, two competitive preference priorities, and one invitational priority. The absolute priority is from the notice of final priority, requirements, definitions, and selection criteria for this program, published in the Federal Register on June 15, 2012 (77 FR 35953) (2012 NFP).

The competitive preference priorities and invitational priority are from the notice of final supplemental priorities and definitions for discretionary grant programs, published in the Federal Register on December 10, 2014 (79 FR 73425) (Supplemental Priorities).

Absolute Priority: For FY 2015 and any subsequent year in which we make awards from the list of unfunded applicants from this competition, this priority is an absolute priority. Under 34 CFR 75.105(c)(3) we consider only applications that meet this priority.

This priority is:

Absolute Priority: Model Projects.

One or more high-quality projects that are designed to develop and implement, or expand, initiatives in Arts education and Arts Integration on a national level for pre-kindergarten-through-grade-12 children and youth, with special emphasis on serving Children from Low-income Families and Children with Disabilities. In order to meet this priority, an applicant must demonstrate that the project for which it seeks funding will provide services and develop initiatives in multiple schools and school districts throughout the country, including in at least one urban, at least one rural, and at least one High-need Community.

Competitive Preference Priorities: For FY 2015 and any subsequent year in which we make awards from the list of unfunded applicants from this competition, these priorities are competitive preference priorities. Under 34 CFR 75.105(c)(2)(i), we award up to an additional five points to an application, depending on how well the application meets Competitive Preference Priority 1. We award up to an additional five points to an application that meets Competitive Preference Priority 2. The total number of points an application may receive for addressing the competitive preference priorities is 10.

These priorities are:

Competitive Preference Priority 1: Supporting High-Need Students (0 to 5 points).

(a) Projects that are designed to improve:

(i) Academic outcomes;

(ii) Learning environments; or

(iii) Both,

(b) For one or more of the following groups of students:

(i) High-need Students.

(ii) Students served by Rural Local Educational Agencies.

(iii) Students with disabilities.

(iv) English learners.

(v) Students in Lowest-performing Schools.

(vi) Students who are living in poverty and are served by schools with high concentrations of students living in poverty.

(vii) Disconnected Youth or migrant youth.

(viii) Low-skilled Adults.

(ix) Students who are members of federally recognized Indian tribes.

Competitive Preference Priority 2: Promoting Science, Technology, Engineering, and Mathematics (STEM) Education (0 to 5 points).

Projects that are designed to improve Student Achievement or other related outcomes by addressing one or both of the following:

(a) Increasing the preparation of teachers or other educators in STEM subjects through activities that may include building content knowledge and pedagogical content knowledge, and increasing the number and quality of Authentic STEM Experiences.

(b) Providing students with increased access to rigorous and engaging STEM coursework and Authentic STEM Experiences that may be integrated across multiple settings.

Invitational Priority: For FY 2015 and any subsequent year in which we make awards from the list of unfunded applicants from this competition, this priority is an invitational priority. Under 34 CFR 75.105(c)(1) we do not give an application that meets this invitational priority a competitive or absolute preference over other applications.

This priority is:

Invitational Priority: Improving Parent, Family, and Community Engagement.

Projects that are designed to improve student outcomes through implementing initiatives that improve Community Engagement or the relationships between parents or families and school or program staff by cultivating Sustained Partnerships.

Definitions:

The definitions for the terms “Arts,” “Arts Educator,” “Arts Integration,” “Child from Low-income Family,” “Children with Disabilities,” “High-need Community,” and “National Non-profit Arts Education Organization” are from the 2012 NFP. The definitions for the terms “Evidence of Promise,” “Logic Model,” “Quasi-experimental Design Study,” “Randomized Controlled Trial,” “Relevant Outcome,” and “Strong Theory” are from 34 CFR 77.1(c). The definition for the term “Sustained and Intensive” is specific to the AENP's Government Performance and Results Act (GPRA) measure only. All other definitions are from the Supplemental Priorities.

Arts means music, dance, theater, media arts, and visual arts, including folk arts.

Arts educator means a teacher or other instructional staffer who works in music, dance, theater, media arts, or visual arts, including folk arts.

Arts integration means (i) using high-quality arts instruction within other academic content areas, and (ii) strengthening the arts as a core academic subject in the school curriculum.

Authentic STEM experiences means laboratory, research-based, or experiential learning opportunities in a STEM (science, technology, engineering, and mathematics) subject in informal or formal settings.

Child from low-income family means a child who is determined by a State educational agency or local educational agency (LEA) to be a child, in pre-kindergarten through grade 12, from a low-income family, on the basis of (a) the child's eligibility for free or reduced-price lunches under the Richard B. Russell National School Lunch Act, (b) the child's eligibility for medical assistance under the Medicaid program under title XIX of the Social Security Act, (c) the family having an income that meets the poverty criteria established by the U.S Department of Commerce, or (d) the family's receipt of assistance under part A of title IV of the Social Security Act.

Children with disabilities means children who meet the definition of “individual with a disability” applicable to Section 504 of the Rehabilitation Act of 1973, as amended, which definition is set out at 29 U.S.C. 705(20)(B).

Community engagement means the systematic inclusion of community organizations as partners with State educational agencies, LEAs, or other educational institutions, or their school or program staff to accomplish activities that may include developing a shared community vision, establishing a shared accountability agreement, participating in shared data-collection and analysis, or establishing community networks that are focused on shared community-level outcomes. These organizations may include faith- and community-based organizations, institutions of higher education (including minority-serving institutions eligible to receive aid under title III or title V of the Higher Education Act of 1965 (HEA)), businesses and industries, labor organizations, State and local government entities, or Federal entities other than the Department.

Disconnected youth means low-income individuals, ages 14-24, who are homeless, are in foster care, are involved in the justice system, or are not working or not enrolled in (or at risk of dropping out of) an educational institution.

Evidence of promise means there is empirical evidence to support the theoretical linkage(s) between at least one critical component and at least one relevant outcome presented in the logic model for the proposed process, product, strategy, or practice. Specifically, evidence of promise means the conditions in both paragraphs (i) and (ii) of this definition are met:

(i) There is at least one study that is a—

(A) Correlational study with statistical controls for selection bias;

(B) Quasi-experimental design study that meets the What Works Clearinghouse Evidence Standards with reservations; or

(C) Randomized controlled trial that meets the What Works Clearinghouse Evidence Standards with or without reservations.

(ii) The study referenced in paragraph (i) of this definition found a statistically significant or substantively important (defined as a difference of 0.25 standard deviations or larger) favorable association between at least one critical component and one relevant outcome presented in the logic model for the proposed process, product, strategy, or practice.

High-minority school means a school as that term is defined by a local educational agency (LEA), which must define the term in a manner consistent with its State's Teacher Equity Plan, as required by section 1111(b)(8)(C) of the Elementary and Secondary Education Act of 1965, as amended (ESEA). The applicant must provide the definition(s) of High-minority school used in its application.

High-need community means (i) a political subdivision of a State or portion of a political subdivision of a State, in which at least 50 percent of the children are from low-income families; or (ii) a political subdivision of a State that is among the 10 percent of political subdivisions of the State having the greatest numbers of such children. For the purposes of determining if a community meets this definition, the term “low-income families” means families that have an income that meets the poverty criteria established by the U.S. Department of Commerce for the most recent fiscal year for which satisfactory data are available.

High-need students means students who are at risk of educational failure or otherwise in need of special assistance and support, such as students who are living in poverty, who attend High-minority Schools, who are far below grade level, who have left school before receiving a Regular High School Diploma, who are at risk of not graduating with a diploma on time, who are homeless, who are in foster care, who have been incarcerated, who have disabilities, or who are English learners.

Logic model (also referred to as theory of action) means a well-specified conceptual framework that identifies key components of the proposed process, product, strategy, or practice (i.e., the active “ingredients” that are hypothesized to be critical to achieving the relevant outcomes) and describes the relationships among the key components and outcomes, theoretically and operationally.

Low-skilled adult means an adult with low literacy and numeracy skills.

Lowest-performing schools means—

For a State with an approved request for flexibility under the ESEA, Priority Schools or Tier I and Tier II Schools that have been identified under the School Improvement Grants program.

For any other State, Tier I and Tier II Schools that have been identified under the School Improvement Grants Program.

National non-profit arts education organization means an organization of national scope that is supported by staff or affiliates at the State and local levels and that has a demonstrated history of advancing high-quality Arts education and Arts Integration for Arts Educators, education leaders, artists, and students through professional development, partnerships, educational programming, and supporting systemic school reform.

Persistently-lowest achieving school means, as determined by the State—

(a)(1) Any Title I school that has been identified for improvement, corrective action, or restructuring under section 1116 of the Elementary and Secondary Education Act of 1965, as amended (ESEA), and that—

(i) Is among the lowest-achieving five percent of Title I schools in improvement, corrective action, or restructuring or the lowest-achieving five Title I schools in improvement, corrective action, or restructuring in the State, whichever number of schools is greater; or

(ii) Is a high school that has had a graduation rate, as defined in 34 CFR 200.19(b), that is less than 60 percent over a number of years; and

(2) Any secondary school that is eligible for, but does not receive, Title I funds that:

(i) Is among the lowest-achieving five percent of secondary schools or the lowest-achieving five secondary schools in the State that are eligible for, but do not receive, Title I funds, whichever number of schools is greater; or

(ii) Is a high school that has had a graduation rate, as defined in 34 CFR 200.19(b), that is less than 60 percent over a number of years.

(b) To identify the lowest-achieving schools, a State must take into account both:

(i) The academic achievement of the “all students” group in a school in terms of proficiency on the State's assessments under section 1111(b)(3) of the ESEA, in reading/language arts and mathematics combined; and

(ii) The school's lack of progress on those assessments over a number of years in the “all students” group.

Priority schools means schools that, based on the most recent data available, have been identified as among the lowest-performing schools in the State. The total number of Priority Schools in a State must be at least five percent of the Title I schools in the State. A priority school is—

(a) A school among the lowest five percent of Title I schools in the State based on the achievement of the “all students” group in terms of proficiency on the statewide assessments that are part of the SEA's differentiated recognition, accountability, and support system, combined, and has demonstrated a lack of progress on those assessments over a number of years in the “all students” group;

(b) A Title I-participating or Title I-eligible high school with a graduation rate that is less than 60 percent over a number of years; or

(c) A Tier I or Tier II school under the School Improvement Grant (SIG) program that is using SIG funds to implement a school intervention model.

Quasi-experimental design study means a study using a design that attempts to approximate an experimental design by identifying a comparison group that is similar to the treatment group in important respects. These studies, depending on design and implementation, can meet What Works Clearinghouse Evidence Standards with reservations (but not What Works Clearinghouse Evidence Standards without reservations).

Randomized controlled trial means a study that employs random assignment of, for example, students, teachers, classrooms, schools, or districts to receive the intervention being evaluated (the treatment group) or not to receive the intervention (the control group). The estimated effectiveness of the intervention is the difference between the average outcomes for the treatment group and for the control group. These studies, depending on design and implementation, can meet What Works Clearinghouse Evidence Standards without reservations.

Relevant outcome means the student outcome(s) (or the ultimate outcome if not related to students) the proposed process, product, strategy, or practice is designed to improve, consistent with the specific goals of a program.

Regular high school diploma means the standard high school diploma that is awarded to students in the State and that is fully aligned with the State's academic content standards or a higher diploma and does not include a General Education Development (GED) credential, certificate of attendance, or any alternative award.

Rural local educational agency means an LEA that is eligible under the Small Rural School Achievement (SRSA) program or the Rural and Low-Income School (RLIS) program authorized under title VI, part B of the ESEA. Eligible applicants may determine whether a particular LEA is eligible for these programs by referring to information on the Department's Web site at www2.ed.gov/nclb/freedom/local/reap.html.

Strong theory means a rationale for the proposed process, product, strategy, or practice that includes a logic model.

Student achievement means—

For grades and subjects in which assessments are required under section 1111(b)(3) of the ESEA: (1) A student's score on such assessments; and, as appropriate, (2) other measures of student learning, such as those described in the subsequent paragraph, provided that they are rigorous and comparable across schools within an LEA.

For grades and subjects in which assessments are not required under section 1111(b)(3) of the ESEA: (1) Alternative measures of student learning and performance, such as student results on pre-tests, end-of-course tests, and objective performance-based assessments; (2) student learning objectives; (3) student performance on English language proficiency assessments; and (4) other measures of student achievement that are rigorous and comparable across schools within an LEA.

Sustained and Intensive, as used in the GPRA measure set forth under Performance Measures in section VI of this notice, means to complete 40 hours of professional development and 75 percent of the total number of professional development hours offered over a period of six or more months.

Sustained partnership means a relationship that has demonstrably adequate resources and other support to continue beyond the funding period and that consist of community organizations as partners with an LEA and one or more of its schools. These organizations may include faith- and community-based organizations, institutions of higher education (including minority-serving institutions eligible to receive aid under title III or title V of the HEA), businesses and industries, labor organizations, State and local government entities, or Federal entities other than the Department.

Tier I schools means—

(a) A Title I school that has been identified as in improvement, corrective action, or restructuring under section 1116 of the Elementary and Secondary Education Act of 1965, as amended (ESEA) and that is identified by the SEA under paragraph (a)(1) of the definition of Persistently-lowest Achieving School.

(b) An elementary school that is eligible for Title I, Part A funds that—

(1)(i) Has not made adequate yearly progress for at least two consecutive years; or

(ii) Is in the State's lowest quintile of performance based on proficiency rates on the State's assessments under section 1111(b)(3) of the Elementary and Secondary Education Act of 1965, as amended (ESEA) in reading/language arts and mathematics combined; and

(2) Is no higher achieving than the highest-achieving school identified by the SEA under paragraph (a)(1)(i) of the definition of Persistently-lowest Achieving School.

Tier II schools means—

(a) A secondary school that is eligible for, but does not receive, Title I, Part A funds and is identified by the State educational agency (SEA) under paragraph (a)(2) of the definition of Persistently-lowest Achieving Schools.

(b) A secondary school that is eligible for Title I, Part A funds that—

(1)(i) Has not made adequate yearly progress for at least two consecutive years; or

(ii) Is in the State's lowest quintile of performance based on proficiency rates on the State's assessments under section 1111(b)(3) of the Elementary and Secondary Education Act of 1965, as amended (ESEA), in reading/language arts and mathematics combined; and

(2)(i) Is no higher achieving than the highest-achieving school identified by the SEA under paragraph (a)(2)(i) of the definition of Persistently-lowest Achieving School; or

(ii) Is a high school that has had a graduation rate, as defined in 34 CFR 200.19(b), that is less than 60 percent over a number of years.

What Works Clearinghouse Evidence Standards means the standards set forth in the What Works Clearinghouse Procedures and Standards Handbook (Version 3.0, March 2014), which can be found at the following link: http://ies.ed.gov/ncee/wwc/DocumentSum.aspx?sid=19.

Application Requirements: The following eligibility and application requirements are from the 2012 NFP and apply to this competition.

1. To be eligible for an award, an applicant must be a National Non-profit Arts Education Organization.

2. An applicant must describe in its application how it would serve Children from Low-income Families and Children with Disabilities.

3. An applicant must describe in its application how it would implement the following activities and services at the national level:

(i) Professional development based on State or national standards for pre-kindergarten-through-grade-12 Arts Educators.

Note: The term “national standards” was used, but not defined, in the 2005 NFP. Since then, the program has described “national standards” as the Arts standards developed by the Consortium of National Arts Education Associations (Consortium) or another comparable set of national arts standards. The standards developed by the Consortium outline what students should know and be able to do in the Arts. Although the program considers these standards “national standards,” these standards are not established or endorsed by the Department.

(ii) Development and dissemination of instructional materials, including online resources, in music, dance, theater, media arts, and visual arts, including folk arts, for Arts Educators.

(iii) Arts-based educational programming in music, dance, theater, media arts, and visual arts, including folk arts, for pre-kindergarten-through-grade-12 students and Arts Educators.

(iv) Community and national outreach activities and services that strengthen and expand partnerships among schools, school districts, and communities throughout the country.

Program Authority: 20 U.S.C. 7271.

Applicable Regulations: (a) EDGAR in 34 CFR parts 75, 77, 79, 81, 82, 84, 86, 97, 98, and 99. (b) The OMB Guidelines to Agencies on Governmentwide Debarment and Suspension (Nonprocurement)in 2 CFR part 180, as adopted and amended as regulations of the Department in 2 CFR part 3485, and the Uniform Administrative Requirements, Cost Principles, and Audit Requirements for Federal Awards in 2 CFR part 200, as adopted and amended in 2 CFR part 3474. (c) The 2012 NFP (77 FR 35953). (d) The Supplemental Priorities (79 FR 73425).

Note: The regulations in 34 CFR part 79 apply to all applicants except federally recognized Indian tribes.

Note: The regulations in 34 CFR part 86 apply to institutions of higher education only.

II. Award Information

Type of Award: Discretionary grants.

Estimated Available Funds: $6,700,000.

Contingent upon the availability of funds and the quality of applications, we may make additional awards in FY 2016 from the list of unfunded applicants from this competition.

Estimated Number of Awards: 1.

Note: The Department is not bound by any estimates in this notice.

Project Period: Up to 36 months (subject to availability of funds).

III. Eligibility Information

1. Eligible Applicants: National Non-profit Arts Education Organizations.

2. a. Cost Sharing or Matching: This program does not require cost sharing or matching.

b. Supplement-Not-Supplant: This program involves supplement-not-supplant funding requirements. Under section 5551(f)(2) of the ESEA, the Secretary requires that assistance provided under this program be used only to supplement, and not to supplant, any other assistance or funds made available from non-Federal sources for the activities assisted under the program. This requirement has the effect of requiring grantees to use a restricted indirect cost rate, according to the requirements in 34 CFR 75.563 and 34 CFR 76.564 through 76.569. The restricted indirect cost rate excludes certain costs from the rate that otherwise would be recovered under a standard indirect cost rate. As soon as applicants decide to apply, they are urged to contact the ED Indirect Cost Group at (202) 245-7784 for guidance about obtaining a restricted indirect cost rate to use on the Budget Information form (ED Form 524) included with the application package.

c. Coordination Requirement: Under section 5551(f)(1) of the ESEA, the Secretary requires that each entity funded under this program coordinate, to the extent practicable, each project or program carried out with funds awarded under this program with appropriate activities of public or private cultural agencies, institutions, and organizations, including museums, arts education associations, libraries, and theaters.

IV. Application and Submission Information

1. Address to Request Application Package: Asheley McBride, U.S. Department of Education, 400 Maryland Avenue SW., Room 4W240, Washington, DC 20202-5960 or by email: AENP15Competition@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2.a. Content and Form of Application Submission: Requirements concerning the content of an application, together with the forms you must submit, are in the application package for this competition.

Notice of Intent to Apply: March 12, 2015. The Department will be able to develop a more efficient process for reviewing grant applications if it has a better understanding of the number of entities that intend to apply for funding under this competition. Therefore, the Secretary strongly encourages each potential applicant to notify the Department by sending a short email message indicating the applicant's intent to submit an application for funding. The email need not include information regarding the content of the proposed application, only the applicant's intent to submit it. The email notification should be sent to the AENP program inbox at: AENP15Competition@ed.gov.

Eligible entities that fail to provide this email notification may still apply for funding.

Page Limit: The application narrative (Part III of the application) is where you, the applicant, address the selection criteria that reviewers use to evaluate your application. We suggest you limit the application narrative to the equivalent of no more than 50 pages, using the following standards:

• A “page” is 8.5″ x 11″, on one side only, with 1″ margins at the top, bottom, and both sides.

• Double space (no more than three lines per vertical inch) all text in the application narrative, except for titles, headings, footnotes, quotations, references, captions, charts, tables, figures, and graphs.

• Use a font that is either 12 point or larger or no smaller than 10 pitch (characters per inch).

• Use one of the following fonts: Times New Roman, Courier, Courier New, or Arial.

The page limit does not apply to Part I, the cover sheet; Part II, the budget section, including the narrative budget justification; Part IV, the assurances and certifications; or the one-page abstract, the resumes, or letters of support. However, the page limit does apply to all of the application narrative section.

b. Submission of Proprietary Information: Given the types of projects that may be proposed in applications for the AENP, an application may include business information that the applicant considers proprietary. The Department's regulations define “business information” in 34 CFR 5.11.

Because we plan to make successful applications available to the public, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: February 10, 2015.

Deadline for Notice of Intent to Apply: March 12, 2015.

Date of Informational Webinar: The AENP intends to hold a webinar designed to provide technical assistance to interested applicants. Detailed information regarding this webinar will be provided on the AENP Web site at http://www2.ed.gov/programs/artsnational/index.html.

Deadline for Transmittal of Applications: April 13, 2015.

Applications for grants under this competition must be submitted electronically using the Grants.gov Apply site (Grants.gov). For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: June 10, 2015.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications. Applications for grants under the AENP, CFDA number 84.351F, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the AENP at www.Grants.gov. You must search for the downloadable application package for this program by the CFDA number. Do not include the CFDA number's alpha suffix in your search (e.g., search for 84.351, not 84.351F).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Asheley McBride, U.S. Department of Education, 400 Maryland Avenue SW., Room 4W240, Washington, DC 20202-5950. Telephone: (202) 202-453-6500 or by email: AENP15Competition@ed.gov. FAX: (202) 205-5630.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the following address: U.S. Department of Education, Application Control Center, Attention: (CFDA Number 84.351F), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application by hand, on or before the application deadline date, to the Department at the following address: U.S. Department of Education, Application Control Center, Attention: (CFDA Number 84.351F), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from the 2012 NFP for this program and from 34 CFR 75.210, and are as follows:

The maximum score for all the selection criteria is 100 points. The maximum score for each criterion is indicated in parentheses. Each criterion also includes the factors that the reviewers will consider in determining how well an application meets the criterion.

The selection criteria are as follows:

(1) Significance (15 points).

The Secretary reviews each application to determine the extent to which—

(a) The proposed project is likely to build State and local capacity to provide, improve, or expand Arts education and Arts Integration that address the needs of children and youth, with special emphasis on serving Children from Low-income Families and Children with Disabilities; and

(b) The applicant has a history of three or more years of demonstrated excellence in the areas of Arts education and Arts Integration on a national scale.

(2) Quality of the project design (35 points). The Secretary reviews each application to determine the extent to which—

(a) The design of the proposed project is appropriate to, and will successfully address, the Arts education needs of pre-kindergarten-through-grade-12 children and youth, with special emphasis on Children from Low-income Families and Children with Disabilities;

(b) The proposed project will provide high-quality professional development for pre-kindergarten-through-grade-12 Arts Educators who provide instruction in music, dance, drama, media arts, or visual arts, including folk arts;

(c) The proposed project is supported by Strong Theory.

Note: The Secretary encourages the applicant to consider measures and targets tied to their grant activities. The measures and targets should be sufficient to gauge the progress throughout the grant period, and show results by the end of the grant period. The Department's Regional Educational Laboratories (RELs) seek to build the capacity of States and school districts to incorporate data and research into education decision making. Each REL provides research support and technical assistance to its region but makes learning opportunities available to educators everywhere. For example, the REL Northeast and Islands has created the following resource on Logic Models: http://relpacific.mcrel.org/ELM.html.

(3) Quality of project services (25 points).

In determining the quality of the services to be provided by the proposed project, the Secretary considers the extent to which—

(a) The services to be provided by the proposed project involve the collaboration of appropriate partners in order to maximize the effectiveness of project services; and

(b) The proposed project will provide services and initiatives that will reach students and Arts Educators in multiple schools and school districts in urban, rural, and High-need Communities throughout the country.

(4) Quality of the project evaluation (25 points).

The Secretary considers the quality of the evaluation to be conducted of the proposed project. In determining the quality of the evaluation, the Secretary considers—

(a) The extent to which the methods of evaluation include the use of objective performance measures that are clearly related to the intended outcomes of the project and will produce quantitative and qualitative data to the extent possible.

(b) The extent to which the methods of evaluation will provide performance feedback and permit periodic assessment of progress toward achieving intended outcomes.

(c) The extent to which the methods of evaluation will, if well-implemented, produce Evidence of Promise.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under GPRA, the Secretary has established four performance measures to assess the effectiveness of this program. Projects funded under this competition will be expected to collect and report to the Department data related to these measures. Applications should, but are not required to, discuss in the application narrative how they propose to collect these data. The four GPRA performance measures are: (1) The total number of students who participate in standards-based Arts education sponsored by the grantee; (2) the number of teachers participating in the grantee's program who receive professional development that is Sustained and Intensive; (3) the total number of students from low-income families who participate in standards-based Arts education sponsored by the grantee; and (4) the total number of students with disabilities who participate in standards-based Arts education sponsored by the grantee.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Asheley McBride, U.S. Department of Education, 400 Maryland Avenue SW., Room 4W, Washington, DC 20202-5950. Telephone: (202) 453-6500, or by email: AENP15Competition@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 4, 2015.
Nadya Chinoy Dabby,
Assistant Deputy Secretary for Innovation and Improvement.

[FR Doc. 2015-02596 Filed 2-9-15; 8:45 am]

BILLING CODE 4000-01-P